DEPARTMENT OF ENERGY

Federal Energy Regulatory Commission

[Project No. 2466-037]

Appalachian Power Company; Notice of Application Accepted for Filing, Soliciting Motions To Intervene and Protests, Ready for Environmental Analysis, and Soliciting Comments, Recommendations, Preliminary Terms and Conditions, and Preliminary Fishway Prescriptions

Take notice that the following hydroelectric application has been filed with the Commission and is available for public inspection.

a. Type of Application: New Major License.

b. Project No.: 2466-037.

c. Date Filed: February 28, 2022.

d. Applicant: Appalachian Power Company (Appalachian).

e. Name of Project: Niagara Hydroelectric Project (Niagara Project).

f. Location: The project is located on the Roanoke River, in Roanoke County, Virginia. The project occupies 0.9 acre of federal land managed by the National Park Service.

g. Filed Pursuant to: Federal Power Act 16 U.S.C. 791 (a)-825(r).

h. Applicant Contact: Mr. Jonathan Magalski, Environmental Supervisor, Renewables, American Electric Power Service Corporation c/o Appalachian Power Company, 1 Riverside Plaza, Columbus, OH 43215; Phone at (614) 716-2240 or email at jmmagalski@aep.com.

i. FERC Contact: Laurie Bauer at (202) 502-6519, or laurie.bauer@ferc.gov.

j. Deadline for filing motions to intervene and protests, comments, recommendations, preliminary terms and conditions, and preliminary prescriptions: 60 days from the issuance date of this notice; reply comments are due 105 days from the issuance date of this notice.

The Commission strongly encourages electronic filing. Please file motions to intervene, protests, comments, recommendations, preliminary terms and conditions, and preliminary fishway prescriptions using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, you may submit a paper copy. Submissions sent via the U.S. Postal Service must be addressed to: Kimberly D. Bose, Secretary, Federal Energy Regulatory Commission, 888 First Street NE, Washington, DC 20426. Submissions sent via any other carrier must be addressed to: Kimberly D. Bose, Secretary, Federal Energy Regulatory Commission, 12225 Wilkins Avenue, Rockville, Maryland 20852. All filings must clearly identify the project name and docket number on the first page: Niagara Hydroelectric Project (P-2466-037).

The Commission's Rules of Practice require all intervenors filing documents with the Commission to serve a copy of that document on each person on the official service list for the project. Further, if an intervenor files comments or documents with the Commission relating to the merits of an issue that may affect the responsibilities of a particular resource agency, they must also serve a copy of the document on that resource agency.

k. This application has been accepted for filing and is now ready for environmental analysis.

The Council on Environmental Quality (CEQ) issued a final rule on April 20, 2022, revising the regulations under 40 CFR parts 1502, 1507, and 1508 that federal agencies use to implement the National Environmental Policy Act (NEPA) (see National Environmental Policy Act Implementing Regulations Revisions, 87 FR 23453-70). The final rule became effective on May 20, 2022. Commission staff intends to conduct its NEPA review in accordance with CEQ's new regulations.

l. The existing Niagara Project consists of: (1) a 52-foot-high, 462-foot-long concrete dam, inclusive of the right non-overflow abutment (70 feet long) and main spillway (392 feet long) with a crest elevation of 885 feet; ¹ (2) a 62-acre impoundment with a gross storage capacity of 425 acre-feet at the normal pool elevation of 884.4 feet; (3) an 11-foot-diameter, 500-foot-long corrugated metal pipe penstock with associated entrance and discharge structures; (4) a 1,500-foot-long bypassed reach; (5) a 92-foot-long, 58-foot-wide, 42-foot-high concrete powerhouse containing two generating units with a total authorized installed capacity of 2.4 megawatts (MW); (6) a 103-foot-long auxiliary spillway with a crest elevation of 886 feet located downstream of the upstream intake; (7) transmission facilities consisting of 50-foot-long, 2.4-kilovolt (kV) generator leads and a 3-phase, 2.4/12-kV, 2,500-kilovolt ampere (kVA) step-up transformer; and (8) appurtenant facilities.

¹ All elevations are in National Geodetic Vertical Datum of 1929.

The Niagara Project operates in a run-of-river (ROR) mode under all flow conditions, where outflow approximates inflow, with an average annual generation of 8,557 megawatt-hours between 2018 and 2021. The project is operated to maintain the impoundment at or near elevation 884.4 feet, which is 0.6 foot below the crest of the main spillway. During extreme flow conditions, such as rapidly changing inflows, Appalachian operates the project with a minimum impoundment elevation of 883.4 feet. Appalachian provides a minimum flow of 50 cubic feet per second (cfs), or inflow to the impoundment, whichever is less, below the project as measured at the U.S. Geological Survey gage located approximately 200 feet downstream of the powerhouse. When the project is not generating, this flow is provided over the spillway. Appalachian also provides a year-round minimum flow of 8 cfs into the bypassed reach through the sluice gate or over the spillway.

Appalachian proposes to continue operating the project in a ROR mode and to increase the existing minimum flow provided to the bypassed reach from 8 cfs to 30 cfs to protect water quality and aquatic resources in the bypassed reach.

m. A copy of the application may be viewed on the Commission's website at http://www.ferc.gov using the “eLibrary” link. Enter the docket number excluding the last three digits in the docket number field to access the document. For assistance, contact FERC Online Support. At this time, the Commission has suspended access to the Commission's Public Reference Room, due to the proclamation declaring a National Emergency concerning the Novel Coronavirus Disease (COVID-19), issued by the President on March 13, 2020. For assistance, contact FERC at FERCOnllineSupport@ferc.gov or call toll-free, (886) 208-3676 or TTY, (202) 502-8659.

Register online at http://www.ferc.gov/docs-filing/esubscription.asp to be notified via email of new filings and issuances related to this or other pending projects. For assistance, contact FERC Online Support.

n. Anyone may submit comments, a protest, or a motion to intervene in accordance with the requirements of Rules of Practice and Procedure, 18 CFR 385.210, .211, and .214. In determining the appropriate action to take, the Commission will consider all protests or other comments filed, but only those who file a motion to intervene in accordance with the Commission's Rules may become a party to the proceeding. Any comments, protests, or motions to intervene must be received on or before the specified comment date for the particular application.

All filings must (1) bear in all capital letters the title “PROTEST,” “MOTION TO INTERVENE,” “COMMENTS,” “REPLY COMMENTS,” “RECOMMENDATIONS,” “PRELIMINARY TERMS AND CONDITIONS,” or “PRELIMINARY FISHWAY PRESCRIPTIONS;” (2) set forth in the heading the name of the applicant and the project number of the application to which the filing responds; (3) furnish the name, address, and telephone number of the person protesting or intervening; and (4) otherwise comply with the requirements of 18 CFR 385.2001 through 385.2005. All comments, recommendations, terms and conditions or prescriptions must set forth their evidentiary basis and otherwise comply with the requirements of 18 CFR 4.34(b). Agencies may obtain copies of the application directly from the applicant. A copy of any protest or motion to intervene must be served upon each representative of the applicant specified in the particular application. A copy of all other filings in reference to this application must be accompanied by proof of service on all persons listed in the service list prepared by the Commission in this proceeding, in accordance with 18 CFR 4.34(b) and 385.2010.

o. Procedural Schedule:

The application will be processed according to the following schedule. Revisions to the schedule may be made as appropriate.

Milestone | Target date
Filing of Comments, Recommendations, Preliminary Terms and Conditions, and Preliminary Fishway Prescriptions | April 2023.
Filing of Reply Comments | May 2023.

p. Final amendments to the application must be filed with the Commission no later than 30 days from the issuance date of this notice.

q. The applicant must file no later than 60 days following the date of issuance of this notice: (1) a copy of the water quality certification; (2) a copy of the request for certification, including proof of the date on which the certifying agency received the request; or (3) evidence of waiver of water quality certification. Please note that the certification request must comply with 40 CFR 121.5(b), including documentation that a pre-filing meeting request was submitted to the certifying authority at least 30 days prior to submitting the certification request. Please also note that the certification request must be sent to the certifying authority and to the Commission concurrently.

Dated: February 7, 2023.
Kimberly D. Bose,
Secretary.

[FR Doc. 2023-03010 Filed 2-10-23; 8:45 am]

BILLING CODE 6717-01-P